DEPARTMENT OF TRANSPORTATION

Federal Transit Administration

[FTA Docket No. 2016-0018]

Notice of Request for Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to approve the revision of the currently approved information collection:

49 U.S.C. Sections 5310 and 5311—Capital Assistance Program for Elderly Persons and Persons with Disabilities and Non-Urbanized Area Formula Program

OMB Control No.: 2132-0500

DATES: Comments must be submitted before June 6, 2016.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: Marianne Stock, Office of Program Management, (202) 366-2677 or email Marianne.stock@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Sections 5310 and 5311—Capital Assistance Program for Elderly Persons and Persons with Disabilities and Non-Urbanized Area Formula Program (OMB Number: 2132-0561)

Background: 49 U.S.C. 5310—Capital Assistance Program for Elderly Persons and Persons with Disabilities provides financial assistance for the specialized transportation service needs of elderly persons and persons with disabilities in large urban, small urban and rural areas. Formula funding is apportioned to direct recipients: States for rural (under 50,000 population) and small urban (areas (50,000-200,000); and designated recipients chosen by the Governor of the State for large urban areas (populations or 200,000 or more); or a State or local governmental entity that operates a public transit service. Section 3006(b) of Fixing America's Surface Transportation Act (FAST Act), Public Law 114-94 authorizes a pilot program for innovative coordinated access and mobility. 49 U.S.C. 5311—Formula Grants for Rural Areas provides financial assistance for the provision of public transportation services in rural areas. This program is administered by States. The Public Transportation on Indian Reservations Program or Tribal Transit Program (TTP), is authorized as 49 U.S.C. 5311(j). The TTP is a set-aside from the Rural Area Formula Program (Section 5311), and consists of a $30 million formula program and a $5 million discretionary grant program. These funds are apportioned directly to Indian tribes. Eligible recipients of TTP program funds include federally recognized Indian tribes, or Alaska Native villages, groups, or communities as identified by the Bureau of Indian Affairs. 49 U.S.C. 5310 and 5311 authorize FTA to review applications for federal financial assistance to determine eligibility and compliance with statutory and administrative requirements. The applications must contain sufficient information to enable FTA to make the findings required by law to enforce the requirements of the programs. Information collected during the project management stage provides a basis for monitoring approved projects to ensure timely and appropriate expenditure of federal funds by grant recipients.

Estimated Annual Burden on Respondents: Approximately 111 hours for each of the 178 respondents.

Estimated Total Annual Burden: 20,882 hours.

Frequency: Annual.

William Hyre,
Deputy Associate Administrator for Administration.

[FR Doc. 2016-07710 Filed 4-4-16; 8:45 am]

BILLING CODE P